DEPARTMENT OF STATE

[Public Notice 4410]

Shipping Coordinating Committee; Notice of Meeting

The Shipping Coordinating Committee (SHC) will conduct an open meeting at 1 PM on Tuesday, September 9, 2003, in Room 4400 of the Department of Transportation Headquarters, 400 Seventh Street SW., Washington, DC 20590-0001. The primary purpose of the meeting is to prepare for the Eighth Session of the International Maritime Organization (IMO) Sub-Committee on Dangerous Goods, Solid Cargoes and Containers to be held at the IMO Headquarters in London, England from September 22 to September 26, 2003.

The primary matters to be considered include:

• Amendments to the International Maritime Dangerous Goods (IMDG) Code and Supplements including harmonization of the IMDG Code with the United Nations Recommendations on the Transport of Dangerous Goods, and review of Annex III of the Marine Pollution Convention (MARPOL 73/78), as amended.

• Review of the Code of Safe Practice for Solid Bulk Cargoes (BC Code), including evaluation of properties of solid bulk cargoes.

• Cargo securing manual.

• Casualty and incident reports and analysis.

• Development of a manual on loading and unloading of solid bulk cargoes for terminal representatives.

• Guidance on serious structural deficiencies in containers.

• Measures to enhance maritime security.

• Ship/terminal interface improvement for bulk carriers.

• Alternative hold loading ban for bulk carriers.

Members of the public may attend the meeting up to the seating capacity of the room. Interested persons may seek information by writing: Mr. E. P. Pfersich, U.S. Coast Guard (G-MSO-3), Room 1210, 2100 Second Street SW., Washington, DC 20593-0001 or by calling (202) 267-1217.

Dated: August 15, 2003.
Margaret F. Hayes,
Chairman, Shipping Coordinating Committee, Department of State.

[FR Doc. 03-21433 Filed 8-20-03; 8:45 am]

BILLING CODE 4710-70-P